DEPARTMENT OF ENERGY

Federal Energy Regulatory Commission

[Docket No. CP99-163-003]

Questar Southern Trails Pipeline Company; Notice of Motion To Vacate Certificate In Part

December 29, 2004.

Take notice that on December 22, 2004, Questar Southern Trails Pipeline Company (Questar Southern Trails), 180 East 100 South, Salt Lake City, Utah 84111, filed in Docket No. CP99-163-003 a motion to vacate the certificate authority granted in 2000, to acquire, convert and construct facilities necessary to operate 209 miles of the West Zone portion of the Southern Trails pipeline project from Essex, California to its termination at Long Beach, California. Questar Southern Trails explains that it no longer intends to activate the 209-mile segment. Questar Southern Trails further explains that following receipt of abandonment authority requested in related Docket No. CP05-39-000, it intends to sell the entire West Zone of the Southern Trails pipeline from North Needles to Long Beach, California. Questar Southern Trails maintains that its decision to sell the West Zone of its pipeline will not alter the operation of or service provided through the East Zone of its pipeline from Blanco, New Mexico to North Needles, California, all as more fully set forth in the motion which is on file with the Commission and open to public inspection. The filing may also be viewed on the Web at http://www.ferc.gov using the “eLibrary” link. Enter the docket number excluding the last three digits in the docket number field to access the document. For assistance, call (202) 502-3676, or TTY, (202) 502-8659.

Any questions regarding this motion should be directed to Tad M. Taylor, Senior Corporate Counsel, Questar Pipeline Company, 180 East 100 South, P.O. Box 45360, Salt Lake City, Utah 84145-0360, Phone: (801) 324-5531 tad.taylor@questar.com.

There are two ways to become involved in the Commission's review of this project. First, any person wishing to obtain legal status by becoming a party to the proceedings for this project should, on or before the comment date, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

Persons who wish to comment only on the environmental review of this project, or in support of or in opposition to this project, should submit an original and two copies of their comments to the Secretary of the Commission. Environmental commentors will be placed on the Commission's environmental mailing list, will receive copies of the environmental documents, and will be notified of meetings associated with the Commission's environmental review process. Environmental commentors will not be required to serve copies of filed documents on all other parties. The Commission's rules require that persons filing comments in opposition to the project provide copies of their protests only to the applicant. However, the non-party commentors will not receive copies of all documents filed by other parties or issued by the Commission (except for the mailing of environmental documents issued by the Commission) and will not have the right to seek court review of the Commission's final order.

The Commission may issue a preliminary determination on non-environmental issues prior to the completion of its review of the environmental aspects of the project. This preliminary determination typically considers such issues as the need for the project and its economic effect on existing customers of the applicant, on other pipelines in the area, and on landowners and communities. For example, the Commission considers the extent to which the applicant may need to exercise eminent domain to obtain rights-of-way for the proposed project and balances that against the non-environmental benefits to be provided by the project. Therefore, if a person has comments on community and landowner impacts from this proposal, it is important either to file comments or to intervene as early in the process as possible.

The Commission strongly encourages electronic filings of comments, protests, and interventions via the internet in lieu of paper. See 18 CFR 385.2001(a)(1)(iii) and the instructions on the Commission's Web site (http://www.ferc.gov) under the “e-Filing” link.

Comment Date: January 19, 2005.

Magalie R. Salas,
Secretary.

[FR Doc. E4-3935 Filed 1-4-05; 8:45 am]

BILLING CODE 6717-01-P